DEPARTMENT OF TRANSPORTATION

National Highway Traffic Safety Administration

[Docket No. NHTSA-2024-0028]

National Emergency Medical Services Advisory Council

AGENCY: National Highway Traffic Safety Administration (NHTSA), U.S. Department of Transportation (Department or DOT).

ACTION: Notice; solicitation of nominations for membership.

SUMMARY: The Department solicits nominations for membership to serve on the National Emergency Medical Services Advisory Council (NEMSAC). The purpose of NEMSAC is to serve as a nationally recognized council of Emergency Medical Services (EMS) representatives and consumers to provide advice and recommendations regarding EMS to DOT. Through NHTSA, NEMSAC's advice is provided to the Secretary of Transportation and the Federal Interagency Committee on Emergency Medical Services (FICEMS).

DATES: Nominations for NEMSAC membership must be received on or before October 20, 2025.

ADDRESSES: All nomination materials should refer to the docket number above and be submitted by one of the following methods:

• Email: NEMSAC@dot.gov.

• Federal Rulemaking Portal: https://www.regulations.gov. Follow the online instructions for submitting comments.

• Mail: U.S. Department of Transportation, 1200 New Jersey Avenue SE, West Building Ground Floor, Room W44-324, Washington, DC 20590-0001.

• Hand Delivery: 1200 New Jersey Avenue SE, West Building Ground Floor, Room W12-140, Washington, DC, between 9 a.m. and 5 p.m. ET, Monday through Friday, except Federal holidays. Attention: Clary Mole, NHTSA Office of EMS.

FOR FURTHER INFORMATION CONTACT: Clary Mole, EMS Specialist, Office of Emergency Medical Services, Clary.Mole@dot.gov or 202-868-3275. All NEMSAC-related questions should be sent to the person listed in this section.

SUPPLEMENTARY INFORMATION:

Background: NEMSAC is an advisory committee established by the Secretary of Transportation pursuant to 42 U.S.C. 300d-4 and operated in accordance with the Federal Advisory Committee Act, 5 U.S.C. ch. 10. NEMSAC provides information, advice, and recommendations to the Secretary of Transportation via the Administrator of NHTSA, and through NHTSA to FICEMS on matters relating to all aspects of development and implementation of EMS. The Council is expected to meet quarterly, and unless otherwise required by law or approved by the Secretary, all meetings will be held virtually.

In this notice, the Department is soliciting nominations for membership to the Council. The Committee shall comprise 25 members, representing sectors of the EMS profession and industry. Members will serve two-year terms. Members may be reappointed but may not serve more than two consecutive terms unless the Secretary determines that term extensions or additional terms are required to ensure representation of all sectors of EMS. Past members of the advisory committee are welcome to apply. The Department is interested in ensuring membership is balanced fairly in terms of the points of view represented and the functions to be performed by the advisory committee.

Description of Duties: NEMSAC is authorized to:

a. Consider information and topics on EMS issues presented by NHTSA's Office of EMS and make recommendations and dispense advise to the Secretary of Transportation and FICEMS. NEMSAC may be tasked to provide recommendations or advice relating to EMS topics, such as:

• Expanded use of the National EMS Information System (NEMSIS)—the database used to store EMS data from the U.S., States, and territories.

• Use of NEMSIS for applied research and development of standards, guidelines, and performance benchmarks that are evidence-based.

• Development of Federal programs that will both improve the delivery of EMS throughout the Nation and coordination among Federal agencies supporting local, regional, State, Tribal, and territorial EMS, and 911 systems.

• National EMS system quality improvement projects and programs that will strengthen the resiliency of EMS systems into one that is inherently more adaptable, innovative, accessible, integrated, prepared, sustainable, and safe.

• Enhancements that promote, strengthen, and increase medical and operational education, professional development, safety, recruitment, retention, use of technology, healthcare system data linkages, etc.

b. Respond to requests for consultation on EMS issues from the Secretary of Transportation and FICEMS through the NHTSA Office of EMS.

c. Prepare an annual report to the Secretary of Transportation regarding its actions and recommendations.

Membership: In accordance with the NEMSAC charter, members should represent a cross-section of the agencies, organizations, and individuals involved in EMS activities and programs in the United States. NEMSAC comprises 25 members, each of whom shall be appointed by the Secretary of Transportation, in coordination with the U.S. Departments of Homeland Security and Health and Human Services through their respective representatives on FICEMS. NEMSAC members shall represent collectively all sectors of the EMS community. NEMSAC's broad-based membership will ensure that it has sufficient EMS system expertise to reflect the whole EMS community. Representatives will be selected based on materials submitted. To the extent practical, NEMSAC membership may include representation from the following sectors of the EMS community:

• Volunteer EMS

• Fire-based (career) EMS

• Private (career non-fire) EMS

• Hospital-based EMS

• Tribal EMS

• Air Medical EMS

• Local EMS Service Officials

• EMS Physicians

• Emergency Physicians

• Trauma Surgeons

• Pediatric Emergency Physicians

• State EMS Officials

• State Highway Safety Officials

• EMS Educators

• State/Local 911 Officials

• EMS Data Management Officials

• EMS Quality Improvement Officials

• EMS Researchers

• Emergency Nurses

• Hospital Administration

• Public Health Officials

• Emergency Management Officials

• EMS Clinicians

• Consumers (not directly affiliated with healthcare)

• State or local legislative bodies

NHTSA is seeking members to serve in a representative capacity on NEMSAC, and not as Special Government Employees. Members will be selected for their ability to represent interests from across the EMS community, but no member will represent a specific organization. NEMSAC members will not receive pay or other compensation from NHTSA for their NEMSAC service, but are entitled to reimbursement of their travel expenses, including per diem. NEMSAC meets in plenary session approximately three to four times per year. NHTSA is seeking to fill all EMS sector representative vacancies.

Process and Deadline for Submitting Nominations: Qualified individuals can self-nominate or be nominated by any individual or organization. An application for appointment must be submitted to one of the locations listed in the ADDRESSES section by the deadline listed in the DATES section and include the following materials:

• A Resume or Curriculum Vitae containing the applicant's full name, title, and relevant contact information (home address, phone number, email address) of the individual requesting consideration.

• At least two (2) but no more than four (4) letters of recommendation from a company, union, trade association, academic, or nonprofit organization, or individual on letterhead containing a brief description of why the applicant should be considered for appointment.

• A short biography of the nominee, including professional and academic credentials.

• An affirmative statement that the nominee meets all Council eligibility requirements.

• A letter of interest that identifies the EMS sector the applicant seeks to represent. Please do not send company, trade association, or organization brochures or any other information. Should more information be needed, DOT staff will contact the nominee, obtain information from the nominee's past affiliations, or obtain information from publicly available sources, such as the internet.

Nominations must be received before October 20, 2025. Nominees selected for appointment to the Council will be notified by email and a letter of appointment.

Issued in Washington, DC.
Jane Terry,
Acting Associate Administrator, Research and Program Development.

[FR Doc. 2025-18096 Filed 9-17-25; 8:45 am]

BILLING CODE 4910-59-P